DEPARTMENT OF COMMERCE

National Oceanic and Atmospheric Administration

15 CFR Part 922

[Docket No. 090122043-0128-03]

RIN 0648-AX37

Gray's Reef National Marine Sanctuary Regulations on the Use of Spearfishing Gear; Correction

AGENCY: Office of National Marine Sanctuaries (ONMS), National Ocean Service (NOS), National Oceanic and Atmospheric Administration (NOAA), Department of Commerce (DOC).

ACTION: Correcting amendment.

SUMMARY: The National Oceanic and Atmospheric Administration (NOAA) published a document in the Federal Register on February 19, 2010 (75 FR 7361) on the use and possession of spearfishing gear in Gray's Reef National Marine Sanctuary. That document was inadvertently missing a word in § 922.92(a)(11)(iii). This document corrects the final regulations by revising that section.

DATES: Effective Date: April 5, 2010.

FOR FURTHER INFORMATION CONTACT: Resource Protection Coordinator Becky Shortland at (912) 598-2381.

SUPPLEMENTARY INFORMATION: NOAA issued final regulations, effective March 22, 2010, that included a description of new requirements on the use and possession of spearfishing gear in Gray's Reef National Marine Sanctuary (75 FR 7361). After the regulations were published NOAA became aware of a word that was inadvertently left out of the regulatory text. This notice corrects the grammatical error in Part 922.92 (a)(11)(iii) by adding the word “it” to the paragraph. The intent of the regulation is not affected by this correction.

Classification

A. Executive Order 12866: Regulatory Impact

This final rule has been determined to be not significant within the meaning of Executive Order 12866.

B. Administrative Procedure Act/Regulatory Flexibility Act

The Acting Assistant Administrator finds good cause pursuant to 5 U.S.C. 553(b)(B) to waive the notice and comment requirements because it is unnecessary. This rule corrects a grammatical error in the regulations that does not have substantive impacts. The intent of the regulation is not affected by the error. NOAA has decided to make this document effective immediately because public comment and delayed effective date are not necessary due to the minimal nature of the correcting amendment. This rule corrects a grammatical error in the regulations that does not have substantive impacts. For the reasons above, the Acting Assistant Administrator finds good cause to waive the 30-day delay in effectiveness.

C. Regulatory Flexibility Act

Because notice and opportunity for comment are not required pursuant to 5 U.S.C. 553 or any other law, the analytical requirements of the Regulatory Flexibility Act (5 U.S.C. 601 et seq.) are inapplicable. Therefore, a regulatory flexibility analysis is not required and has not been prepared.

(Federal Domestic Assistance Catalog Number 11.429 Marine Sanctuary Program)

Dated: March 31, 2010.
Holly Bamford,
Deputy Acting Assistant Administrator for Ocean Services and Coastal Zone Management.

Accordingly, for the reasons set forth above, 15 CFR part 922 is corrected by making the following correcting amendments:

PART 922—NATIONAL MARINE SANCTUARY PROGRAM REGULATIONS

1. The authority citation for part 922 continues to read as follows:

Authority: 16 U.S.C. 1431 et seq.

2. Amend § 922.92 by revising paragraph (a)(11)(iii) as follows:

§ 922.92 Prohibited or otherwise regulated activities.

(a) * * *

(11) * * *

(iii) Spearfishing gear provided that it is stowed on a vessel, not available for immediate use, and the vessel is passing through the Sanctuary without interruption; and

* * * * *

[FR Doc. 2010-7665 Filed 4-2-10; 8:45 am]

BILLING CODE 3510-NK-P